DEPARTMENT OF TRANSPORTATION

Office of the Secretary

14 CFR Chs. I-III

23 CFR Chs. I-III

33 CFR Chs. I and IV

46 CFR Chs. I-III

48 CFR Ch. 12

49 CFR Subtitle A, Chs. I-VI, and Chs. X-XII

[DOT-OST-1999-5129]

Department Regulatory and Deregulatory Agenda; Semiannual Summary

AGENCY: Office of the Secretary, Department of Transportation.

ACTION: Unified Agenda of Federal Regulatory and Deregulatory Actions (Regulatory Agenda).

SUMMARY: The Regulatory Agenda is a semiannual summary of all current and projected rulemakings, reviews of existing regulations, and completed rulemaking actions of the Department of Transportation (DOT). The Regulatory Agenda provides the public with information about DOT's planned regulatory activity for the next 12 months. This information enables the public to participate in the Department's regulatory process. The public is encouraged to submit comments on any aspect of this Regulatory Agenda.

FOR FURTHER INFORMATION CONTACT: Please direct all comments and inquiries on the Regulatory Agenda to Daniel Cohen, Assistant General Counsel for Regulation and Legislation, Office of the General Counsel, Department of Transportation, 1200 New Jersey Avenue SE, Washington, DC 20590; (202) 366-4702.

To obtain a copy of a specific regulatory document in the Regulatory Agenda, you should communicate directly with the contact person listed with the regulation. We note that most such documents, including the Semiannual Regulatory Agenda, are available through the internet at http://www.regulations.gov.

SUPPLEMENTARY INFORMATION:

Purpose

The Department is publishing this Regulatory Agenda in the Federal Register to share with interested members of the public the Department's preliminary expectations regarding its future regulatory actions. The information contained in the Regulatory Agenda should enable the public to be aware of the Department's planned regulatory activities and should result in more effective public participation. This publication in the Federal Register does not impose any binding obligation on the Department or any of the offices within the Department about any specific item on the Regulatory Agenda. Regulatory action, in addition to the items listed, is not precluded.

Request for Comments

General

DOT's Regulatory Agenda is intended primarily for the use of the public. Since its inception, the Department has made modifications and refinements that provide the public with more helpful information, as well as making the Regulatory Agenda easier to use. We would like you, the public, to make suggestions or comments on how the Regulatory Agenda could be further improved.

Regulatory Flexibility Act

The Department has long recognized the importance of regularly reviewing its existing regulations to determine whether they need to be revised or revoked. Our Regulatory Policies and Procedures require such reviews. DOT also has responsibilities under section 610 of the Regulatory Flexibility Act, Executive Order 12866, “Regulatory Planning and Review,” and Executive Order 13563, “Improving Regulation and Regulatory Review,” 76 FR 3821 (January 18, 2011) to conduct such reviews. We are committed to continuing our reviews of existing rules and, if it is needed, will initiate rulemaking actions based on these reviews. Generally, each DOT operating administration divides its rules into 10 different groups and plans to analyze one group each year. In each Fall Regulatory Agenda, each operating administration will publish the results of the analyses it has completed during the previous year. The most recent results appeared in the Department's 2022 Fall Regulatory Agenda Preamble, which was published in the Federal Register on February 22, 2023. The Department is interested in obtaining information on requirements that have a “significant economic impact on a substantial number of small entities” and, therefore, must be reviewed under the Regulatory Flexibility Act. If you have any suggested regulations, please submit them to the Department, along with your explanation of why they should be reviewed.

Consultation With State, Local, and Tribal Governments

Executive Orders 13132 and 13175 require the Department to develop a process to ensure “meaningful and timely input” by State, local, and Tribal officials in the development of regulatory policies that have federalism or tribal implications. These policies are defined in the Executive orders to include regulations that have “substantial direct effects” on States or Indian Tribes, on the relationship between the Federal Government and them, or on the distribution of power and responsibilities between the Federal Government and various levels of Government or Indian tribes. Therefore, we encourage State and local Governments or Indian Tribes to provide us with information about how the Department's rulemakings impact them.

Subash Iyer,
Acting General Counsel, Department of Transportation.

Appendix A—Review Plans for Section 610 and Other Requirements

Part I—The Plan

General

The Department of Transportation has responsibilities under section 610 of the Regulatory Flexibility Act and subsequent executive orders to conduct reviews of its existing regulations. We are committed to continuing our reviews of existing rules and, if it is needed, will initiate rulemaking actions based on these reviews. The Department began a new 10-year review cycle with the Fall 2018 Agenda.

Section 610 Review Plan

Section 610 requires that we conduct reviews of rules that: (1) have been published within the last 10 years; and (2) have a “significant economic impact on a substantial number of small entities” (SEISNOSE). It also requires that we publish in the Federal Register each year a list of any such rules that we will review during the next year. The Office of the Secretary and each of the Department's Operating Administrations have a 10-year review plan. These reviews comply with section 610 of the Regulatory Flexibility Act.

Changes to the Review Plan

Some reviews may be conducted earlier than scheduled. For example, events, such as accidents, may result in the need to conduct earlier reviews of some rules. Other factors may also result in the need to make changes; for example, we may make changes in response to public comment on this plan or in response to a presidentially mandated review. If there is any change to the review plan, we will note the change in the following Agenda. For any section 610 review, we will provide the required notice prior to the review.

Part II—The Review Process

The Analysis

Generally, the agencies have divided their rules into 10 different groups and plan to analyze one group each year. For purposes of these reviews, a year will coincide with the publication annually of the fall Agenda. Most agencies provide historical information about the reviews that have occurred over the past 10 years. Thus, Year 1 (2018) begins in the fall of 2018 and ends in the fall of 2019; Year 2 (2019) begins in the fall of 2019 and ends in the fall of 2020, and so on. The exception to this general rule is the FAA, which provides information about the reviews it completed for this year and prospective information about the reviews it intends to complete in the next 10 years. Thus, for FAA Year 1 (2017) begins in the fall of 2017 and ends in the fall of 2018; Year 2 (2018) begins in the fall of 2018 and ends in the fall of 2019, and so on. We request public comment on the timing of the reviews. For example, is there a reason for scheduling an analysis and review for a particular rule earlier than we have?

Section 610 Review

The agency will analyze each of the rules in each year's group to determine whether any rule has a SEISNOSE and, thus, requires review in accordance with section 610 of the Regulatory Flexibility Act. The level of analysis will, of course, depend on the nature of the rule and its applicability. Publication of agencies' section 610 analyses listed each fall in this Agenda provides the public with notice and an opportunity to comment consistent with the requirements of the Regulatory Flexibility Act. We request that public comments be submitted to the Department early in the analysis year concerning the small entity impact of the rules to help us in making our determinations.

In each Fall Agenda, the agency will publish the results of the analyses it has completed during the previous year. For rules that had a negative finding on SEISNOSE, we will give a short explanation (e.g., “these rules only establish petition processes that have no cost impact” or “these rules do not apply to any small entities”). For parts, subparts, or other discrete sections of rules that do have a SEISNOSE, we will announce that we will be conducting a formal section 610 review during the following 12 months. At this stage, DOT will add an entry to the Agenda in the pre-rulemaking section describing the review in more detail. We also will seek public comment on how best to lessen the impact of these rules and provide a name or docket to which public comments can be submitted. In some cases, the section 610 review may be part of another unrelated review of the rule. In such a case, we plan to clearly indicate which parts of the review are being conducted under section 610.

Other Reviews

The agency will also examine the specified rules to determine whether any other reasons exist for revising or revoking the rule or for rewriting the rule in plain language. In each Fall Agenda, the agency will also publish information on the results of the examinations completed during the previous year.

Part III—List of Pending Section 610 Reviews

The Agenda identifies the pending DOT section 610 Reviews by inserting “(Section 610 Review)” after the title for the specific entry. For further information on the pending reviews, see the Agenda entries at www.reginfo.gov. For example, to obtain a list of all entries that are in section 610 Reviews under the Regulatory Flexibility Act, a user would select the desired responses on the search screen (by selecting “advanced search”) and, in effect, generate the desired “index” of reviews.

Office of the Secretary

Section 610 and Other Reviews

Year | Regulations to be reviewed | Analysis year | Review year
1 | 49 CFR parts 91 through 99 14 CFR parts 200 through 212 48 CFR parts 1201 through 1224 | 2018 | 2019
2 | 48 CFR parts 1227 through 1253 and new parts and subparts | 2019 | 2020
3 | 14 CFR parts 213 through 232 | 2020 | 2021
4 | 14 CFR parts 234 through 254 | 2021 | 2022
5 | 14 CFR parts 255 through 298 and 49 CFR part 40 | 2022 | 2023
6 | 14 CFR parts 300 through 373 | 2023 | 2024
7 | 14 CFR parts 374 through 398 | 2024 | 2025
8 | 14 CFR part 399 and 49 CFR parts 1 through 15 | 2025 | 2026
9 | 49 CFR parts 17 through 28 | 2026 | 2027
10 | 49 CFR parts 29 through 39 and parts 41 through 89 | 2027 | 2028

Year 10 (Fall 2018) List of Rules Analyzed and Summary of Results

49 CFR part 30—Denial of Public Works Contracts to Suppliers of Goods and Services of Countries that Deny Procurement Market Access to U.S. Contractors

• Section 610: OST conducted a Section 610 review of this part and found no SEISNOSE.

• General: No changes are needed. These regulations are cost effective and impose the least burden. OST's plain language review of these rules indicates no need for substantial revision.

49 CFR part 31—Program Fraud Civil Remedies

• Section 610: OST conducted a Section 610 review of this part and found no SEISNOSE.

• General: No changes are needed. These regulations are cost effective and impose the least burden. OST's plain language review of these rules indicates no need for substantial revision.

49 CFR part 37—Transportation Services for Individuals with Disabilities (ADA)

• The U.S. Department of Transportation (DOT) Office of the Secretary (OST), with the assistance of its Operating Administrations, including the Federal Transit Administration (FTA), is in the process of issuing multiple rulemakings that call for changes to the regulatory language in 49 CFR part 37. Specifically, OST is administering a rulemaking titled: “Transportation for Individuals with Disabilities; Service Animals and Other Amendments” (RIN 2105-AF08) which would propose changes to the definition of “service animal” in 49 CFR part 37.3, and several other technical corrections to outdated provisions, such as that referencing a make and model of a lift that has been out of production for three decades (49 CFR part 37.165(g)). In addition, OST is developing a rulemaking titled “Equitable Access to Transit Facilities” (RIN 2105-AF07) in which DOT would consider requirements for secondary elevators, induction loops, and improvements in wayfinding in transit stations. In conjunction with these pending rulemakings, DOT will need to conduct a section 610 review of this part, and, if appropriate, initiate additional rulemaking(s) to minimize the SEISNOSE, bring the regulation into compliance with statutory requirements, and/or revise the regulation for plain language.

49 CFR part 38—Americans with Disabilities Act (ADA) Accessibility Specifications for Transportation Vehicles

• The U.S. Department of Transportation (DOT) Office of the Secretary (OST), with the assistance of its Operating Administrations, including the Federal Transit Administration (FTA), is in the process of issuing a rulemaking that calls for changes to the regulatory language in 49 CFR part 38. Specifically, OST is developing a rulemaking titled: “Transportation for Individuals with Disabilities; Adoption of Accessibility Standards for Buses and Vans” (RIN 2105-AF09) in order to consider new standards for accessible buses and vans based on updated accessibility guidelines issued by the U.S. Access Board (USAB) on December 14, 2016. In conjunction with this pending rulemaking, OST will need to conduct a Section 610 review of this part, and, if appropriate, initiate additional rulemaking(s) to minimize the SEISNOSE, bring the regulation into compliance with statutory requirements, and/or revise the regulation for plain language.

49 CFR part 39—Transportation for Individuals with Disabilities: Passenger Vessels

• Section 610: The U.S. Department of Transportation (DOT) Office of the Secretary (OST) conducted a section 610 review of this part and found SEISNOSE. The regulation requires owners and operators of passenger vessels to 1) ensure their vessels and related facilities are accessible; and 2) take steps to accommodate passengers with disabilities. These requirements can entail significant investments from owners and operators of passenger vessels, many of whom qualify as small businesses as defined by the U.S. Small Business Administration. OST plans to explore whether it is appropriate to initiate a rulemaking to revise this regulation to minimize the SEISNOSE.

• General: In considering ways to minimize the SEISNOSE for Part 39, DOT plans to explore whether to modify the definition of “service animal” in 49 CFR 39.3. The current definition is inconsistent with the amendments made by the Department of Justice (DOJ) on July 23, 2010, (see 28 CFR 35.104 and 35.136), as well as the definition under DOT's Air Carrier Access Act regulations (see 14 CFR 382.3), as amended on December 10, 2020. The current requirement under 49 CFR 39.3 defines service animals as “any guide dog, signal dog, or other animal individually trained to work or perform tasks for an individual with a disability.” DOJ defines a service animal in terms of “any dog that is individually trained to do work or perform tasks for the benefit of an individual with a disability, including a physical, sensory, psychiatric, intellectual, or other mental disability” (see 28 CFR 35.104) (emphasis added). Under DOJ regulations at 28 CFR 35.136(i), reasonable modifications in policy and practices must also be made where necessary to accommodate miniature horses as service animals. In contrast, the passenger vessel industry operating under Part 39 remains subject to requirements for accommodating unusual service animals, such as reptiles and primates. Updating the definition of “service animal” under 49 CFR 39.3 would ensure consistency across Federal regulations and remove the confusion that results for individuals with service animals when different standards apply to different public facilities and modes of transportation. OST has already determined to consider updates to the “service animal” definition contained in 49 CFR 37.3 (Part 37 governs Transportation Services for Individuals with Disabilities (ADA)) for the aforementioned reasons and is in the process of developing a rulemaking on that issue titled: “Transportation for Individuals with Disabilities; Service Animals and Technical Corrections” (RIN 2105-AF08).

As a result, OST will consider whether to conduct a rulemaking to bring this regulation into compliance with the statutory requirements and to bring consistency to the regulatory regime governing different modes of transportation. OST's plain language review of this regulation indicates no need for substantial revision.

In addition to the above considerations, DOT notes that the U.S. Access Board (USAB) is in the process of developing guidelines under the Americans with Disabilities Act (ADA) for access to ferries, cruise ships, excursion boats, and other large passenger vessels. Those guidelines have not been finalized yet, however, and OST proposes incorporating only final guidelines into DOT's regulations.

49 CFR part 71—Standard Time Zone Boundaries

• Section 610: OST has reviewed these regulations and found no SEISNOSE.

• General: OST has reviewed these regulations and found that some nonsubstantive technical corrections are needed. OST has initiated a rulemaking to make these corrections.

49 CFR part 79—Medals of Honor

• Section 610: The U.S. Department of Transportation (DOT) Office of the Secretary (OST) conducted a Section 610 review of this part and found no SEISNOSE.

• General: No changes are needed. These regulations are cost effective and impose the least burden. OST's plain language review of these rules indicates no need for substantial revision.

49 CFR part 92—Recovering Debts to the United States by Salary Offset

• Section 610: OST conducted a Section 610 review of this part and found no SEISNOSE.

• General: These regulations are cost effective and impose the least burden. OST's plain language review of these rules indicates no need for substantial revision. Since the rule was enacted, however, the DOT Operating Administrations have changed. As a result, DOT will consider a rulemaking to update the agencies listed at 49 CFR 92.5(g)—Definitions to:

(g) DOT operating element (see 49 CFR 1.3) means a DOT Operating Administration including—

(1) The Office of the Secretary.

(2) Federal Aviation Administration.

(3) Federal Highway Administration.

(4) Federal Railroad Administration.

(5) National Highway Traffic Safety Administration.

(6) Office of the Inspector General.

(7) St. Lawrence Seaway Development Corporation.

(8) Maritime Administration.

OST will consider a rulemaking to make these revisions. These regulations are cost effective and impose the least burden. OST's plain language review of these rules indicated no need for substantial revision.

49 CFR part 98—Enforcement of Restrictions on Post-Employment Activities

• Section 610: OST conducted a Section 610 review of this part and found no SEISNOSE.

• General: These regulations are cost effective and impose the least burden. OST's plain language review of these rules indicates no need for substantial revision. Since the rule was enacted, the U.S. Department of Transportation's organizational structure changed, and as a result DOT will consider updating the list of DOT Operating Administrations (OAs) listed in 49 CFR 98.2 to reflect the current listing of DOT OAs in 49 CFR 89.2(a), as follows: (1) references to the U.S. Coast Guard (at 49 CFR 98.2(a)(1)), Urban Mass Transportation Administration (at 49 CFR 98.2(a)(6), and Research and Special Programs Administration (at 49 CFR 98.2(a)(8) should be deleted; (2) reference to the Saint Lawrence Seaway Development Corporation at 49 CFR 98.2(a)(7) should be changed to the Great Lakes Saint Lawrence Seaway Development Corporation; and (3) references to the Federal Motor Carrier Safety Administration, Federal Transit Administration, and Pipeline and Hazardous Materials Safety Administration should be added. In addition, since the rule was enacted, the title of the Assistant General Counsel for Environmental, Civil Rights, and General Law has been updated to the Assistant General Counsel for General Law, so the following change would be considered in 49 CFR 98.3 and 98.4: references to the Assistant General Counsel for Environmental, Civil Rights, and General Law should be updated to the Assistant General Counsel for General Law. OST's plain language review of these rules indicates no need for substantial revision.

49 CFR part 99—Employee Responsibilities and Conduct

• Section 610: OST conducted a Section 610 review of this part and found no SEISNOSE.

• General: No changes are needed. These regulations are cost effective and impose the least burden. OST's plain language review of these rules indicates no need for substantial revision.

48 CFR parts 1201-1224

• Section 610: OST has reviewed the regulations at 48 CFR parts 1201-1224 and found no SEISNOSE.

• General: OST determined that updates were needed to the regulations at 48 CFR parts 1201-1224. The regulations were updated as part of RIN 2105-AE26 (Revisions to the Transportation Acquisition Regulations) The final rule published on October 7, 2022.

48 CFR part 1201—Federal Acquisition Regulations System

48 CFR part 1202—Definitions of Words and Terms

48 CFR part 1203—Improper Business Practices and Personal Conflicts of Interest

48 CFR part 1204—Administrative Matters

48 CFR part 1205—Publicizing Contract Actions

48 CFR part 1206—Competition Requirements

48 CFR part 1207—Acquisition Planning

48 CFR part 1208-1210—[Reserved]

48 CFR part 1211—Describing Agency Needs

48 CFR part 1213—Simplified Acquisition Procedures

48 CFR part 1214—Sealed Bidding

48 CFR part 1215—Contracting by Negotiation

48 CFR part 1216—Types of Contracts

48 CFR part 1217—Special Contracting Methods

48 CFR part 1219—Small Business Programs

48 CFR part 1222—Application of Labor Laws to Government Acquisitions

48 CFR part 1223—Environment, Energy and Water Efficiency, Renewable Energy Technologies, Occupational Safety, and Drug-Free Workplace

48 CFR part 1224—Protection of Privacy and Freedom of Information

Year 1 (Fall 2018) List of Rules That Are Under Ongoing Analysis

49 CFR part 93—Aircraft Allocation

14 CFR part 200—Definitions and Instructions

14 CFR part 201—Air Carrier Authority under Subtitle VII of Title 49 of the United States Code [Amended]

14 CFR part 203—Waiver of Warsaw Convention Liability Limits and Defenses

14 CFR part 204—Data to Support Fitness Determinations

14 CFR part 205—Aircraft Accident Liability Insurance

14 CFR part 206—Certificates of Public Convenience and Necessity: Special Authorizations and Exemptions

14 CFR part 207—Charter Trips by U.S. Scheduled Air Carriers

14 CFR part 208—Charter Trips by U.S. Charter Air Carriers

14 CFR part 211—Applications for Permits to Foreign Air Carriers

14 CFR part 212—Charter Rules for U.S. and Foreign Direct Air Carriers

Year 2 (Fall 2019) List of Rules Analyzed and Summary of Results

48 CFR parts 1227 through 1253 and new parts and subparts

• Section 610: OST has reviewed the regulations at 48 CFR parts 1227-1253 and found no SEISNOSE.

• General: OST determined that updates were needed to the regulations at 48 CFR parts 1227-1253. The regulations were updated as part of RIN 2105-AE26 (Revisions to the Transportation Acquisition Regulations) The final rule published on October 7, 2022.

48 CFR part 1227—Patents, Data, and Copyrights

48 CFR part 1228—Bonds and Insurance

48 CFR part 1231—Contract Costs Principles and Procedures

48 CFR part 1232—Contract Financing

48 CFR part 1233—Protests, Disputes, and Appeals

48 CFR part 1235—Research and Development Contracting

48 CFR part 1236—Construction and Architect-Engineer Contracts

48 CFR part 1237—Service Contracting

48 CFR part 1239—Acquisition of Information Technology

48 CFR part 1242—Contract Administration and Audit Services

48 CFR part 1245—Government Contracting

48 CFR part 1246—Quality Assurance

48 CFR part 1247—Transportation

48 CFR part 1252—Solicitation Provisions and Contract Clauses

48 CFR part 1253—Forms

Year 3 (Fall 2020) List of Rules Analyzed and Summary of Results

14 CFR parts 213 through 232

14 CFR 213—Terms, Conditions and Limitations of Foreign Air Carrier Permits

Section 610: OST conducted a Section 610 review of this part and found no SEISNOSE.

General: No changes are needed. These regulations are cost effective and impose the least burden.

14 CFR 214—Terms, Conditions, and Limitations for Foreign Air Carrier Permits Authorizing Charter Transportation Only

• Section 610: OST conducted a Section 610 review of this part and found no SEISNOSE.

• General: No changes are needed. These regulations are cost effective and impose the least burden.

14 CFR 215—Use and Change of Names of Air Carriers, Foreign Air Carriers and Commuter Air Carriers

Section 610: OST conducted a Section 610 review of this part and found no SEISNOSE.

General: No changes are needed. These regulations are cost effective and impose the least burden.

14 CFR 216—Commingling of Blind Sector Traffic by Foreign Air Carriers

Section 610: OST conducted a Section 610 review of this part and found no SEISNOSE.

General: No changes are needed. These regulations are cost effective and impose the least burden.

14 CFR 218—Lease by Foreign Air Carrier or Other Foreign Person of Aircraft with Crew

Section 610: OST conducted a Section 610 review of this part and found no SEISNOSE.

General: No changes are needed. These regulations are cost effective and impose the least burden.

14 CFR 221—TARIFFS

Section 610: OST conducted a Section 610 review of this part and found no SEISNOSE.

General: OST reviewed and has found that a non-substantive technical correction is necessary and will explore options to make this correction.

14 CFR 222—Intermodal Cargo Services by Foreign Air Carriers

Section 610: OST conducted a Section 610 review of this part and found no SEISNOSE.

General: No changes are needed. These regulations are cost effective and impose the least burden.

14 CFR 223—Free and Reduced-Rate Transportation

Section 610: OST conducted a Section 610 review of this part and found no SEISNOSE.

General: No changes are needed. These regulations are cost effective and impose the least burden.

Year 6 (Fall 2024) List of Rules That Will Be Analyzed During the Next Year

14 CFR part 300—RULES OF CONDUCT IN DOT PROCEEDING UNDER THIS CHAPTER

14 CFR part 302—RULES OF PRACTICE IN PROCEEDINGS

• Section 610 (Subpart D): The U.S. Department of Transportation (DOT) Office of the Secretary (OST) conducted a Section 610 review of this part and found no SEISNOSE.

• General (Subpart D): No changes are needed. These regulations are cost effective and impose the least burden. OST's plain language review of these rules indicates no need for substantial revision. Rule was updated in 2019.

14 CFR part 303—REVIEW OF AIR CARRIER AGREEMENTS

14 CFR part 305—RULES OF PRACTICE IN INFORMAL NONPUBLIC INVESTIGATIONS

• Section 610: The U.S. Department of Transportation (DOT) Office of the Secretary (OST) conducted a Section 610 review of this part and found no SEISNOSE.

• General: No changes are needed. These regulations are cost effective and impose the least burden. OST's plain language review of these rules indicates no need for substantial revision. Rule was updated in 2019.

14 CFR part 313—IMPLEMENTATION OF THE ENERGY POLICY AND CONSERVATION ACT

14 CFR part 323—TERMINATIONS, SUSPENSIONS, AND REDUCTIONS

14 CFR part 325—ESSENTIAL AIR SERVICE PROCEDURES

14 CFR part 330—PROCEDURES FOR COMPENSATION OF AIR CARRIERS

14 CFR part 372—OVERSEAS MILITARY PERSONNEL CHARTERS

Federal Aviation Administration

Section 610 and Other Reviews

The Federal Aviation Administration (FAA) has elected to use the two-step, two-year process used by most Department of Transportation (DOT) modes in past plans. As such, the FAA has divided its rules into 10 groups as displayed in the table below. During the first year (the “analysis year”), all rules published during the previous 10 years within a 10% block of the regulations will be analyzed to identify those with a significant economic impact on a substantial number of small entities (SEISNOSE). During the second year (the “review year”), each rule identified in the analysis year as having a SEISNOSE will be reviewed in accordance with section 610 (b) to determine if it should be continued without change or changed to minimize impact on small entities. Results of those reviews will be published in the DOT Semiannual Regulatory Agenda.

Year | Regulations to be reviewed | Analysis year | Review year
1 | 14 CFR parts 141 through 147 and parts 170 through 187 | 2020 | 2021
2 | 14 CFR parts 189 through 198 and parts 1 through 16 | 2021 | 2022
3 | 14 CFR parts 17 through 33 | 2022 | 2023
4 | 14 CFR parts 34 through 39 and parts 400 through 405 | 2023 | 2024
5 | 14 CFR parts 43 through 49 and parts 406 through 415 | 2024 | 2025
6 | 14 CFR parts 60 through 77 | 2025 | 2026
7 | 14 CFR parts 91 through 107 | 2026 | 2027
8 | 14 CFR parts 417 through 460 | 2027 | 2028
9 | 14 CFR parts 119 through 129 and parts 150 through 156 | 2028 | 2029
10 | 14 CFR parts 133 through 139 and parts 157 through 169 | 2029 | 2030

Defining SEISNOSE for FAA Regulations

The RFA does not define “significant economic impact.” Therefore, there is no clear rule or number to determine when a significant economic impact occurs. However, the Small Business Administration (SBA) states that significance should be determined by considering the size of the business, the size of the competitor's business and the impact the same regulation has on larger competitors.

Likewise, the RFA does not define “substantial number.” However, the legislative history of the RFA suggests that a substantial number must be at least one but does not need to be an overwhelming percentage such as more than half. The SBA states that the substantiality of the number of small businesses affected should be determined on an industry-specific basis.

This analysis consisted of the following three steps:

1. Review of the number of small entities affected by the amendments to parts 34 through 39, and parts 400 through 405.

2. Identification and analysis of all amendments to parts 34 through 39, and parts 400 through 405 since 2013 to determine whether any still have or now have a SEISNOSE.

3. Review of the FAA's regulatory flexibility assessment of each amendment performed as required by the RFA.

Year 1 (Fall 2023) List of Rules Analyzed and Summary of Results

14 CFR part 34—Fuel Venting and Exhaust Emission Requirements for Turbine Engine Powered Airplanes

Section 610: The agency conducted a Section 610 Review of this part and determined no amendments to 14 CFR part 34 promulgated since January 2013 has or will have a SEISNOSE.

General: No changes are needed. These regulations are cost effective and impose the least burden.

14 CFR part 35—Airworthiness Standards: Propellers

Section 610: The agency conducted a Section 610 Review of this part and determined no amendments to 14 CFR part 35 promulgated since January 2013 has or will have a SEISNOSE.

General: No changes are needed. These regulations are cost effective and impose the least burden.

14 CFR part 36—Noise Standards: Aircraft Type and Airworthiness Certification

Section 610: The agency conducted a Section 610 Review of this part and determined no amendments to 14 CFR part 36 promulgated since January 2013 has or will have a SEISNOSE.

General: No changes are needed.

14 CFR part 39—Airworthiness Directives

Section 610: The agency conducted a Section 610 Review of this part and determined no amendments to 14 CFR part 39 promulgated since January 2013 has or will have a SEISNOSE.

General: No changes are needed. These regulations are cost effective and impose the least burden.

14 CFR part 400—Basis and Scope

Section 610: The agency conducted a Section 610 Review of this part and determined no amendments to 14 CFR part 400 promulgated since January 2013 has or will have a SEISNOSE.

General: No changes are needed. These regulations are cost effective and impose the least burden.

14 CFR part 401—Organization and Definitions

Section 610: The agency conducted a Section 610 Review of this part and determined no amendments to 14 CFR part 401 promulgated since January 2013 has or will have a SEISNOSE.

General: No changes are needed.

14 CFR part 404—Petition and Rulemaking Procedures

Section 610: The agency conducted a Section 610 Review of this part and determined no amendments to 14 CFR part 404 promulgated since January 2013 has or will have a SEISNOSE.

General: No changes are needed.

14 CFR part 405—Compliance and Enforcement

Section 610: The agency conducted a Section 610 Review of this part and determined no amendments to 14 CFR part 405 promulgated since January 2013 has or will have a SEISNOSE.

General: No changes are needed.

Year 2 (2024) List of Rules To Be Analyzed the Next Year

14 CFR parts 43 through 49 and parts 406 through 415

14 CFR part 43—Maintenance, Preventive Maintenance, Rebuilding, and Alteration

14 CFR part 45—Identification and Registration Marking

14 CFR part 47—Aircraft Registration

14 CFR part 48—Registration and Marking Requirements for Small Unmanned Aircraft

14 CFR part 49—Recording of Aircraft Titles and Security Documents

14 CFR part 406—Investigations, Enforcement, and Administrative Review

14 CFR part 413—License Application Procedures

14 CFR part 414—Safety Element Approvals

14 CFR part 415—Launch License

Federal Highway Administration

Section 610 and Other Reviews

Year | Regulations to be reviewed | Analysis year | Review year
1 | None | 2018 | 2019
2 | 23 CFR parts 1 to 260 | 2019 | 2020
3 | 23 CFR parts 420 to 470 | 2020 | 2021
4 | 23 CFR part 500 | 2021 | 2022
5 | 23 CFR parts 620 to 637 | 2022 | 2023
6 | 23 CFR parts 645 to 669 | 2023 | 2024
7 | 23 CFR parts 710 to 924 | 2024 | 2025
8 | 23 CFR parts 940 to 973 | 2025 | 2026
9 | 23 CFR parts 1200 to 1252 | 2026 | 2027
10 | New parts and subparts | 2027 | 2028

Federal-Aid Highway Program

The Federal Highway Administration (FHWA) has adopted regulations in title 23 of the CFR, chapter I, related to the Federal-Aid Highway Program. These regulations implement and carry out the provisions of Federal law relating to the administration of Federal aid for highways. The primary law authorizing Federal aid for highways is chapter I of title 23 of the U.S.C. 145, which expressly provides for a federally assisted State program. For this reason, the regulations adopted by the FHWA in title 23 of the CFR primarily relate to the requirements that States must meet to receive Federal funds for construction and other work related to highways. Because the regulations in title 23 primarily relate to States, which are not defined as small entities under the Regulatory Flexibility Act, the FHWA believes that its regulations in title 23 do not have a significant economic impact on a substantial number of small entities. The FHWA solicits public comment on this preliminary conclusion.

Year 5 (Fall 2022) List of Rules Analyzed and a Summary of the Results

23 CFR part 620—Engineering

• Section 610: No SEISNOSE. No small entities are affected.

• General: No changes are needed for purposes of the Regulatory Flexibility Act. FHWA's plain language review of the regulations indicates no need for substantial revision.

23 CFR part 625—Design Standards for Highways

• Section 610: No SEISNOSE. No small entities are affected.

• General: No changes are needed for purposes of the Regulatory Flexibility Act. FHWA recently updated aspects of the part 625 regulations under RIN 2125-AF88 (87 FR 32, (January 3, 2022)). FHWA's plain language review of the regulations indicates no need for substantial revision.

23 CFR part 626—Pavement Policy

• Section 610: No SEISNOSE. No small entities are affected.

• General: No changes are needed for purposes of the Regulatory Flexibility Act. FHWA is proposing to revise aspects of the part 626 regulations under RIN 2125-AF96. FHWA's plain language review of the regulations indicates no need for substantial revision.

23 CFR part 627—Value Engineering

• Section 610: No SEISNOSE. No small entities are affected.

• General: No changes are needed for purposes of the Regulatory Flexibility Act. FHWA's plain language review of the regulations indicates no need for substantial revision.

23 CFR part 630—Preconstruction Procedures

• Section 610: No SEISNOSE. No small entities are affected.

• General: No changes are needed for purposes of the Regulatory Flexibility Act. FHWA is proposing to revise aspects of the part 630 regulations under RINs 2125-AG03 and 2125-AG05. FHWA's plain language review of the regulations indicates no need for substantial revision.

23 CFR part 633—Required Contract Provisions

• Section 610: No SEISNOSE. No small entities are affected.

• General: No changes are needed for purposes of the Regulatory Flexibility Act. FHWA is proposing to revise aspects of the part 633 regulations under RIN 2125-AG11. FHWA's plain language review of the regulations indicates no need for substantial revision.

23 CFR part 635—Construction and Maintenance

• Section 610: No SEISNOSE. No small entities are affected.

• General: No changes are needed for purposes of the Regulatory Flexibility Act. FHWA recently updated aspects of the part 635 regulations under RIN 2125-AF83 (87 FR 67553 (November 9, 2022)). FHWA's plain language review of the regulations indicates no need for substantial revision.

23 CFR part 636—Design-build Contracting

• Section 610: No SEISNOSE. No small entities are affected.

• General: No changes are needed for purposes of the Regulatory Flexibility Act. FHWA's plain language review of the regulations indicates no need for substantial revision.

23 CFR part 637—Construction Inspection and Approval

• Section 610: No SEISNOSE. No small entities are affected.

• General: No changes are needed for purposes of the Regulatory Flexibility Act. FHWA's plain language review of the regulations indicates no need for substantial revision.

Year 6 (Fall 2023) List of Rules That Will Be Analyzed During the Next Year

23 CFR part 645—Utilities

23 CFR part 646—Railroads

23 CFR part 650—Bridges, Structures, and Hydraulics

23 CFR part 655—Traffic Operations

23 CFR part 656—Carpool and Vanpool Projects

23 CFR part 657—Certification of Size and Weight Enforcement

23 CFR part 658—Truck Size and Weight, Route Designations—Length, Width and Weight Limitations

23 CFR part 660—Special Programs (Direct Federal)

23 CFR part 661—Indian Reservation Road Bridge Program

23 CFR part 667—Periodic Evaluation of Facilities Repeatedly Requiring Repair and Reconstruction Due to Emergency Events

23 CFR part 668—Emergency Relief Program

23 CFR part 669—Enforcement of Heavy Vehicle Use Tax

Federal Motor Carrier Safety Administration

Section 610 and Other Reviews

Year | Regulations to be reviewed | Analysis year | Review year
1 | 49 CFR part 386 | 2018 | 2019
2 | 49 CFR part 385 | 2019 | 2020
3 | 49 CFR parts 382 and 383 | 2020 | 2021
4 | 49 CFR part 380 | 2021 | 2022
5 | 49 CFR part 387 | 2022 | 2023
6 | 49 CFR part 398 | 2023 | 2024
7 | 49 CFR part 392 | 2024 | 2025
8 | 49 CFR part 375 | 2025 | 2026
9 | 49 CFR part 367 | 2026 | 2027
10 | 49 CFR part 395 | 2027 | 2028

Year 4 (2021) List of Rules With Ongoing Analysis

49 CFR part 380—Special Training Requirements

• Section 610: FMCSA analyzed 49 CFR part 380 and found no SEISNOSE.

• 49 CFR part 380 is comprised of two distinct training matters. Subparts A through D establish minimum requirements for operators of longer combination vehicles (LCVs) and LCV driver-instructors. These parts introduce minor administrative costs of retaining records in case of a future investigation and training costs as directed by statute.¹ It identifies prudent business-related costs that a small business desiring to provide such training would incur whether the rule existed or not.

¹ Section 31307. Minimum training requirements for operators of longer combination vehicles (a) Definition. In this section, “longer combination vehicle” means a vehicle consisting of a truck tractor and more than one trailer or semitrailer that operates on the Dwight D. Eisenhower System of Interstate and Defense Highways with a gross vehicle weight of more than 80,000 pounds. (b) Requirements. The Secretary of Transportation shall maintain regulations establishing minimum training requirements for operators of longer combination vehicles. The training shall include certification of an operator's proficiency by an instructor who has met the requirements established by the Secretary.

• Subparts E through G address entry-level driver training. A major regulatory change was the introduction of the Entry-Level Driver Training (ELDT) rule which directed a compliance date of February 7, 2022.

• The rule was updated to ensure new entrant drivers are qualified. The rule affects entry-level drivers seeking a CDL or a hazardous material (H), passenger (P), or school bus (S) endorsement, motor carriers, and training providers. Entry-level drivers are not small entities as defined by the U.S. Small Business Administration (SBA) and are therefore not included in this analysis. This rule does not directly regulate motor carriers except in cases where the carrier elects to register as a certified trainer. The ELDT rule requires motor carriers to maintain training records which drives a minimal cost.

• Motor carriers and training/educational institutions seeking to register on the Training Provider Registry (TRP) as training providers must retain certain records and update the TPR website with company and student information. The costs are minimal. It also requires lesson plans and training criteria to comply with federal, state, and local requirements.

• General: There is no need for substantial revision. These regulations provide necessary/clear guidance to industry employers, drivers, and training providers. The regulations are written consistent with plain language guidelines, are cost-effective, and impose the least economic burden on the industry.

Year 5 (2022) List of Rules With Ongoing Analysis

49 CFR part 387—Minimum Levels of Financial Responsibility for Motor Carriers

• Section 610: FMCSA analyzed 49 CFR part 387 but found no SEIOSNOSE.

• Under 49 U.S.C. 31138 and 31139, FMCSA is required to establish minimum levels of financial responsibility at or above the levels set by Congress. FMCSA's regulations (49 CFR part 387 subparts A and B) require for-hire property, passenger motor carriers, and all motor carriers transporting hazardous materials to maintain financial responsibility at the statutory minimums set forth in 49 U.S.C. 31138 and 31139.

• 49 CFR part 387 affects a substantial number of small entities, but the cost of required minimums does not impose a significant economic impact because the industry standard imposed by most lenders requires a higher level of coverage. Also, because the financial responsibility requirements were imposed by an act of Congress, FMCSA cannot further reduce the burden and satisfy the statutory directive Beyond the costs of obtaining insurance, 49 CFR part 387, subpart C, requires for-hire motor carriers subject to the Agency's jurisdiction under 49 U.S.C. 13501 to file evidence of financial responsibility with FMCSA. The cost of this administrative activity is minimal and does not rise to the level of a significant economic impact.

General: There is no need for substantial revision. These regulations provide necessary/clear guidance to “For-hire” property and passenger motor carriers. The regulations are cost-effective and impose the least economic burden on the industry.

Year 6 (2023) List of Rules That Will Be Analyzed During the Next Year

49 CFR part 398—Transportation of Migrant Workers

National Highway Traffic Safety Administration

Section 610 and Other Reviews

Year | Regulations to be reviewed | Analysis year | Review year
1 | 49 CFR 571.223 through 571.500, and parts 575 and 579 | 2018 | 2019
2 | 23 CFR part 1300 | 2019 | 2020
3 | 49 CFR parts 501 through 526 and 571.213 | 2020 | 2021
4 | 49 CFR 571.131, 571.217, 571.220, 571.221, and 571.222 | 2021 | 2022
5 | 49 CFR 571.101 through 571.110, and 571.135, 571.136, 571.138 and 571.139 | 2022 | 2023
6 | 49 CFR 571.141, and 49 CFR parts 529 through 578, except parts 571 and 575. | 2023 | 2024
7 | 49 CFR 571.111 through 571.129 and parts 580 through 588 | 2024 | 2025
8 | 49 CFR 571.201 through 571.212 | 2025 | 2026
9 | 49 CFR 571.214 through 571.219, except 571.217 | 2026 | 2027
10 | 49 CFR parts 591 through 595 and new parts and subparts | 2027 | 2028

Years 1 Through 6 (Fall 2019-2024) List of Rules With Ongoing or Pending Analysis

49 CFR part 571.101—Controls and displays

49 CFR part 571.102—Transmission shift position sequence, starter interlock, and transmission braking effect

49 CFR part 571.103—Windshield defrosting and defogging systems

49 CFR part 571.104—Windshield wiping and washing systems

49 CFR part 571.105—Hydraulic and electric brake systems

49 CFR part 571.106—Brake hoses

49 CFR part 571.108—Lamps, reflective devices, and associated equipment

49 CFR part 571.109—New pneumatic tires for vehicles manufactured from 1949 to 1975, bias ply tires, and T-type spare tires

49 CFR part 571.110—Tire selection and rims and motor home/recreation vehicle trailer load carrying capacity information for motor vehicles with a GVWR of 4,536 kilograms (10,000 pounds) or less

49 CFR part 571.131—School Bus Pedestrian Safety Devices

49 CFR part 571.135—Light vehicle brake systems

49 CFR part 571.136—Electronic stability control systems for heavy vehicles

49 CFR part 571.138—Tire pressure monitoring systems

49 CFR part 571.139—New pneumatic radial tires for light vehicles

49 CFR 571.141—Minimum Sound Requirements for Hybrid and Electric Vehicles

49 CFR part 571.213—Child Restraint Systems

49 CFR part 571.217—Bus Emergency Exits and Window Retention and Release

49 CFR part 571.220—School Bus Rollover Protection

49 CFR part 571.221—School Bus Body Joint Strength

49 CFR part 571.222—School Bus Passenger Seating and Crash Protection

49 CFR part 571.223—Rear Impact Guards

49 CFR part 571.224—Rear Impact Protection

49 CFR part 571.225—Child Restraint Anchorage Systems

49 CFR part 571.226—Ejection Mitigation

49 CFR part 571.301—Fuel System Integrity

49 CFR part 571.302—Flammability of Interior Materials

49 CFR part 571.303—Fuel System Integrity of Compressed Natural Gas Vehicles

49 CFR part 571.304—Compressed Natural Gas Fuel Container Integrity

49 CFR part 571.305—Electric-Powered Vehicles: Electrolyte Spillage and Electrical Shock Protection

49 CFR part 571.401—Interior Trunk Release

49 CFR part 571.403—Platform Lift Systems for Motor Vehicles

49 CFR part 571.404—Platform Lift Installations in Motor Vehicles

49 CFR part 571.500—Low-Speed Vehicles

49 CFR part 501—Organization and Delegation of Powers and Duties

49 CFR part 509—OMB Control Numbers for Information Collection Requirements

49 CFR part 510—Information Gathering Powers

49 CFR part 511—Adjudicative Procedures

49 CFR part 512—Confidential Business Information

49 CFR part 520—Procedures for Considering Environmental Impacts

49 CFR part 523—Vehicle Classification

49 CFR part 525—Exemptions from Average Fuel Economy Standards

49 CFR part 526—Petitions and Plans for Relief under the Automobile Fuel Efficiency Act of 1980

49 CFR part 529—Manufacturers of Multistage Automobiles

49 CFR part 531—Passenger Automobile Average Fuel Economy Standards

49 CFR part 533—Light Truck Fuel Economy Standards

49 CFR part 534—Rights and Responsibilities of Manufacturers in the Context of Changes in Corporate Relationships

49 CFR part 535—Medium- and Heavy-Duty Vehicle Fuel Efficiency Program

49 CFR part 536—Transfer and Trading of Fuel Economy Credits

49 CFR part 537—Automotive Fuel Economy Reports

49 CFR part 538—Manufacturing Incentives for Alternative Fuel Vehicles

49 CFR part 541—Federal Motor Vehicle Theft Prevention Standard

49 CFR part 542—Procedures for Selecting Light Duty Truck Lines to Be Covered by the Theft Prevention Standard

49 CFR part 543—Exemption from Vehicle Theft Prevention Standard

49 CFR part 545—Federal Motor Vehicle Theft Prevention Standard Phase-in and Small-Volume Line Reporting Requirements

49 CFR part 551—Procedural Rules

49 CFR part 552—Petitions for Rulemaking, Defect, and Noncompliance Orders

49 CFR part 553—Rulemaking Procedures

49 CFR part 554—Standards Enforcement and Defects Investigation

49 CFR part 555—Temporary Exemption from Motor Vehicle Safety and Bumper Standards

49 CFR part 556—Exemption for Inconsequential Defect or Noncompliance

49 CFR part 557—Petitions for Hearings on Notification and Remedy of Defects

49 CFR part 562—Lighting and Marking of Agricultural Equipment

49 CFR part 563—Event Data Recorders

49 CFR part 564—Replaceable Light Source and Sealed Beam Headlamp Information

49 CFR part 565—Vehicle Identification Number (VIN) Requirements

49 CFR part 566—Manufacturer Identification

49 CFR part 567—Certification

49 CFR part 568—Vehicles Manufactured in Two or More Stages—All Incomplete, Intermediate and Final-Stage Manufacturers of Vehicles Manufactured in Two or More Stages

49 CFR part 569—Regrooved Tires

49 CFR part 570—Vehicle in Use Inspection Standards

49 CFR part 572—Anthropomorphic Test Devices

49 CFR part 573—Defect and Noncompliance Responsibility and Reports

49 CFR part 574—Tire Identification and Recordkeeping

49 CFR part 575—Consumer Information

49 CFR part 576—Record Retention

49 CFR part 577—Defect and Noncompliance Notification

49 CFR part 578—Civil and Criminal Penalties

49 CFR part 579—Reporting of Information and Communications About Potential Defects

23 CFR part 1200—Uniform Procedures for State Highway Safety Grant Programs

23 CFR part 1300—Uniform Procedures for State Highway Safety Grant Programs

Federal Railroad Administration

Section 610 and Other Reviews

Year | Regulations to be reviewed | Analysis year | Review year
1 | 49 CFR parts 200, 207, 209, and 210 | 2018 | 2019
2 | 49 CFR parts 211, 212, 213, 214, and 215 | 2019 | 2020
3 | 49 CFR parts 216, 217, 218, 219, and 220 | 2020 | 2021
4 | 49 CFR parts 221, 222, 223, 224, and 225 | 2021 | 2022
5 | 49 CFR parts 227, 228, 229, 230, and 231 | 2022 | 2023
6 | 49 CFR parts 232, 233, 234, 235, and 236 | 2023 | 2024
7 | 49 CFR parts 237, 238, 249, 240, and 241 | 2024 | 2025
8 | 49 CFR parts 242, 243, 244, 250, and 256 | 2025 | 2026
9 | 49 CFR parts 261, 262, 264, 266, and 268 | 2026 | 2027
10 | 49 CFR parts 269, 270, and 272 | 2027 | 2028

Year 5 (Fall 2022) List of Rules Analyzed and a Summary of Results

49 CFR part 227—Occupational Noise Exposure

Section 610: There is no SEISNOSE.

General: The main objective of the rule is to protect the occupational health and safety of employees whose predominant noise exposure occurs in the locomotive cab. Hearing loss is an important issue in the railroad industry and there is a continuing safety need for this rule. The rule prescribes minimum Federal health and safety noise standards for locomotive cab occupants. This rule does not restrict a railroad or railroad contractor from adopting and enforcing additional or more stringent requirements. FRA's plain language review of this rule indicates no need for substantial revision.

49 CFR part 228—Hours of Service of Railroad Employees

Section 610: There is no SEISNOSE.

General: This rule prescribes reporting and recordkeeping requirements regarding the hours of service of certain railroad employees, railroad contractors and subcontractors and establishes standards and procedures concerning the construction of sleeping quarters. In general, this rule promotes the safety of railroad operations and employees. FRA's plain language review of this rule indicates no need for substantial revision.

49 CFR part 229—Railroad Locomotive Safety Standards

Section 610: There is a SEISNOSE.

General: Since the rule prescribes minimum Federal safety standards for all locomotives except those propelled by steam power, these regulations are necessary to achieve better and effective compliance of railroad locomotive safety standards, and to minimize the number of casualties. FRA's plain language review of this rule indicates that there is no need for substantial revision.

49 CFR part 230—Steam Locomotive Inspection and Maintenance Standards

Section 610: There is no SEISNOSE.

General: The rule prescribes minimum Federal safety standards of inspection and maintenance for all steam locomotive operated on railroads. These requirements are necessary to ensure the protection and safety of railroad employees and the general public, and to minimize the number of casualties. FRA's plain language review of this rule indicates no need for substantial revision.

49 CFR part 231—Railroad Safety Appliances Standards

• Section 610: There is no SEISNOSE.

• General: The rule provides for railroad safety standards which are necessary to ensure the protection and safety of railroad employees and public, and to minimize the number of casualties. Small railroads generally purchase rail equipment that has already been used in transportation by Class I and Class II railroads. As a result, rail equipment used by small railroads is often in compliance with part 231 standards at the time of acquisition. In addition, small railroads are not substantially affected by rail equipment maintenance costs that are associated with part 231 requirements because most rail equipment repairs are performed by Class I and Class II railroads and/or billed to the car owner. Although part 231 may have some impact on small railroads, FRA has deemed any such impact to be necessary to ensure uniform and consistent equipment design requirements, which contribute to the safety of railroad employees who work on or about the rail equipment. FRA's plain language review of this rule indicates no need for substantial revision.

Year 6 (Fall 2023) List of Rules(s) That Will Be Analyzed During This Year

49 CFR part 232—Brake System Safety Standards for Freight and Other Non-Passenger Trains and Equipment; End-of-Train Devices

49 CFR part 233—Signal Systems Reporting Requirements

49 CFR part 234—Grade Crossing Safety

49 CFR part 235—Instructions Governing Applications for Approval of a Discontinuance or Material Modification of a Signal System or Relief from the Requirements of Part 236

49 CFR part 236—Rules, Standards, and Instructions Governing the Installation, Inspection, Maintenance, and Repair of Signal and Train Control Systems, Devices, and Appliances

Federal Transit Administration

Section 610 and Other Reviews

The Regulatory Flexibility Act of 1980 (RFA), as amended (sections 601 through 612 of title 5, United States Code), requires Federal regulatory agencies to analyze all proposed and final rules to determine their economic impact on small entities, which include small businesses, organizations, and governmental jurisdictions. Section 610 requires government agencies to periodically review all regulations that will have a significant economic impact on a substantial number of small entities (SEISNOSE).

In complying with this section, the Federal Transit Administration (FTA) has elected to use the two-step, two-year process used by most Department of Transportation (DOT) modes. As such, FTA has divided its rules into 10 groups as displayed in the table below. During the analysis year, the listed rules will be analyzed to identify those with a SEISNOSE. During the review year, each rule identified in the analysis year as having a SEISNOSE will be reviewed in accordance with section 610(b) to determine if it should be continued without change or changed to minimize the impact on small entities.

Year | Regulations to be reviewed | Analysis year | Review year
1 | 49 CFR parts 604, 605, and 624 | 2018 | 2019
2 | 49 CFR parts 609 and 640 | 2019 | 2020
3 | 49 CFR part 633 | 2020 | 2021
4 | 49 CFR part 611 | 2021 | 2022
5 | 49 CFR part 655 | 2022 | 2023
6 | 49 CFR parts 602 and 614 | 2023 | 2024
7 | 49 CFR parts 661 and 663 | 2024 | 2025
8 | 49 CFR parts 625, 630, and 665 | 2025 | 2026
9 | 49 CFR parts 613, 622, 670 and 674 | 2026 | 2027
10 | 49 CFR parts 650, 672 and 673 | 2027 | 2028

Year 5 (Fall 2022) List of Rules Analyzed and Summary of Results

49 CFR part 655—Prevention of Alcohol Misuse and Prohibited Drug Use in Transit Operations

• Section 610: FTA conducted a Section 610 review of 49 CFR part 655 and determined that it would not result in a SEISNOSE within the meaning of the RFA. The regulation implements statutorily required procedures for alcohol and controlled substance testing.

• General: No changes are needed. FTA amended the Prevention of Alcohol Misuse and Prohibited Drug Use in Transit Operations regulation in 2023 (88 FR 27596) to include oral fluid testing and to harmonize testing procedures with the Mandatory Guidelines for Federal Workplace Drug Testing Programs Using Oral Fluid established by the U.S. Department of Health and Human Services.

The rule increases flexibility for small-entity transportation employers and drug test collection sites by allowing them to use oral fluid testing instead of urine testing to meet DOT testing requirements. Accordingly, FTA determined that the rule would not have a significant economic impact on a substantial number of small entities.

Year 6 (Fall 2023) List of Rules To Be Analyzed This Year

49 CFR part 602—Emergency Relief

49 CFR part 614—Transportation Infrastructure Management

Maritime Administration

Section 610 and Other Reviews

Year | Regulations to be reviewed | Analysis year | Review year
1 | 46 CFR parts 201 through 205, 46 CFR parts 315 through 340, 46 CFR part 345 through 347, and 46 CFR parts 381 and 382 | 2018 | 2019
2 | 46 CFR parts 221 through 232 | 2019 | 2020
3 | 46 CFR parts 249 through 296 | 2020 | 2021
4 | 46 CFR parts 298 | 2021 | 2022
5 | 46 CFR parts 307 through 309 | 2022 | 2023
6 | 46 CFR part 310 | 2023 | 2024
7 | 46 CFR parts 315 through 340 | 2024 | 2025
8 | 46 CFR parts 345 through 381 | 2025 | 2026
9 | 46 CFR parts 382 through 389 | 2026 | 2027
10 | 46 CFR parts 390 through 393 | 2027 | 2028

Year 4 (2022) List of Rules Analyzed and Summary of Results

46 CFR 298—Vessel Financing Assistance

• Section 610: There is no SEISNOSE.

• General: MARAD has reviewed part 298 and found that while it does not have SEISNOSE, it is necessary to amend the rule to implement statutory changes and update the existing financial requirements imposed on Title XI Program obligors to align with more up-to-date vessel financing and federal credit best practices. Accordingly, MARAD has initiated a rulemaking to amend the rule. MARAD's rulemaking amending part 298 will include plain language revisions.

Year 5 (2023) List of Rules Analyzed and Summary of Results

46 CFR part 307—Mandatory Position Report System for Vessels

Section 307: There is no SEISNOSE.

• General: No changes are needed. MARAD's plain language review of this rule indicated no need for substantial revision.

46 CFR part 308—War Risk Insurance

• Section 610: There is no SEISNOSE.

• General: No changes are needed. MARAD's plain language review of this rule indicated no need for substantial revision.

46 CFR part 309—War Risk Ship Valuation

• Section 610: There is no SEISNOSE.

• General: No changes are needed. MARAD's plain language review of this rule indicated no need for substantial revision.

Year 6 (2024) List of Rules With Ongoing Analysis

46 CFR part 310—Merchant Marine Training

Pipeline and Hazardous Materials Safety Administration (PHMSA)

Section 610 and Other Reviews

Year | Regulations to be reviewed | Analysis year | Review year
1 | 49 CFR part 178 | 2018 | 2019
2 | 49 CFR parts 178 through 180 | 2019 | 2020
3 | 49 CFR parts 172 and 175 | 2020 | 2021
4 | 49 CFR part 171, sections 171.15 and 171.16 | 2021 | 2022
5 | 49 CFR parts 106, 107, 171, 190, and 195 | 2022 | 2023
6 | 49 CFR parts 174, 177, and 199 | 2023 | 2024
7 | 49 CFR parts 176, 191 and 192 | 2024 | 2025
8 | 49 CFR parts 172 and 178 | 2025 | 2026
9 | 49 CFR parts 172, 173, 174, 176, 177, and 193 | 2026 | 2027
10 | 49 CFR parts 173 and 194 | 2027 | 2028

Year 5 (Fall 2023) List of Rules Analyzed and a Summary of Results

49 CFR part 106—RULEMAKING PROCEDURES

49 CFR part 107—HAZARDOUS MATERIALS PROGRAM PROCEDURES

49 CFR part 171—GENERAL INFORMATION, REGULATIONS, AND DEFINITIONS

• Section 610: PHMSA conducted a review of these parts and found no SEISNOSE.

• General: PHMSA has reviewed these parts and found that while these parts do not have SEISNOSE, they could be revised to reflect new technologies and updated to reflect current practices. Therefore, PHMSA has initiated rulemakings that—where necessary—revise portions of parts 106, 107, and 171. Otherwise, PHMSA's plain language review of these parts indicates no need for substantial revision. Where confusing or ambiguous language has been identified, PHMSA plans to propose or finalize revisions by way of rulemakings.

As an example, the “Hazardous Materials: Advancing Safety of Modal Specific Provisions” (2137-AF41) rulemaking action is part of PHMSA's response to clarify current regulatory requirements and address public comments. This rulemaking also proposes to address a variety of petitions for rulemaking, specific to modal stakeholders, and other issues identified by PHMSA during its regulatory review. The impact that the 2137-AF41 rulemaking will have on small entities is not expected to be significant. The rulemaking is based on PHMSA's initiatives and correspondence with the regulated community, as well as PHMSA's consultation with its modal partners, including FMCSA, FRA, and the United States Coast Guard (USCG). The proposed amendments are expected to result in an overall net cost savings and ease the regulatory compliance burden for small entities, shippers, carriers, manufacturers, and requalifiers, specifically those modal-specific packaging and requalification requirements. This rulemaking is one example of PHMSA's review of rulemakings which ensures that our rules do not have a significant economic impact on a substantial number of small entities.

For a second example, the “Hazardous Materials: Harmonization With International Standards” (2137-AF57) rulemaking action is part of PHMSA's ongoing biennial process to harmonize the Hazardous Materials Regulations (HMR) with international regulations and standards. Federal law and policy strongly favor the harmonization of domestic and international standards for hazardous materials transportation. The Federal hazardous materials transportation law (Federal hazmat law; 49 U.S.C. 5101 et seq.) directs PHMSA to participate in relevant international standard-setting bodies and promotes consistency of the HMR with international transport standards to the extent practicable. Federal hazardous materials law permits PHMSA to depart from international standards where appropriate, including to promote safety or other overriding public interests. However, Federal hazardous materials law otherwise encourages domestic and international harmonization (see 49 U.S.C. 5120). Harmonization facilitates international trade by minimizing the costs and other burdens of complying with multiple or inconsistent safety requirements for transportation of hazardous materials. Safety is enhanced by creating a uniform framework for compliance, and as the volume of hazardous materials transported in international commerce continues to grow, harmonization becomes increasingly important. The impact that the 2137-AF57 rulemaking will have on small entities is not expected to be significant. The rulemaking will clarify provisions based on PHMSA's initiatives and correspondence with the regulated community and domestic and international stakeholders, which helps promote safety through increased regulatory compliance. The changes are generally intended to provide relief and, as a result, positive economic benefits to shippers, carriers, and packaging manufacturers and testers, including small entities. This rulemaking is expected to lead to both economic and safety benefits. The amendments are expected to result in net benefits for shippers engaged in domestic and international commerce, including trans-border shipments within North America. Additionally, the effective changes of this rulemaking will relieve U.S. companies, including small entities competing in foreign markets, from the burden of complying with a dual system of regulations. This rulemaking is a second example of PHMSA's review of rulemakings which helps ensure that the HMR do not have a significant economic impact on a substantial number of small entities.

49 CFR part 190—PIPELINE SAFETY ENFORCEMENT AND REGULATORY PROCEDURES

• Section 610: PHMSA conducted a review of this part and found no SEISNOSE.

• General: No changes are needed.

49 CFR part 195—TRANSPORTATION OF HAZARDOUS LIQUIDS BY PIPELINE

• Section 610: PHMSA conducted a review of this part and found no SEISNOSE. However, PHMSA conducts regular regulatory reviews to ensure that the Office of Pipeline Safety regulations keep up to date with new technologies and to be responsive to petitions, mandates, recommendations, and safety issues. When necessary, PHMSA's Office of Pipeline Safety proposes amendments to provide relief to small businesses by clarifying and updating its regulations. Additionally, PHMSA's Office of Pipeline Safety regularly incorporates voluntary consensus standards—which are reviewed by committees representing government, industry, and material manufacturers—as a part of its rulemaking activities.

Year 6 (Fall 2024) List of Rules That Will Be Analyzed During the Next Year

49 CFR part 174—CARRIAGE BY RAIL

49 CFR part 177—CARRIAGE BY PUBLIC HIGHWAY

49 CFR part 199—DRUG AND ALCOHOL TESTING

Great Lakes Saint Lawrence Seaway Development Corporation

Section 610 and Other Reviews

Year | Regulations to be reviewed | Analysis year | Review year
1 | * 33 CFR parts 401 through 403 | 2018 | 2019
* The review for these regulations is recurring each year of the 10-year review cycle (currently 2018 through 2027).

Year 1 (Fall 2018) List of Rules That Will Be Analyzed During the Next Year

33 CFR part 401—Seaway Regulations and Rules

33 CFR part 402—Tariff of Tolls

33 CFR part 403—Rules of Procedure of the Joint Tolls Review Board

Office of the Secretary—Final Rule Stage
Sequence No. | Title | Regulation Identifier No.
396 | Refunding Airline Tickets Ancillary Service Fees | 2105-AF04

Federal Aviation Administration—Proposed Rule Stage
Sequence No. | Title | Regulation Identifier No.
397 | Drug and Alcohol Testing of Certain Maintenance Provider Employees Located Outside of the United States | 2120-AK09
398 | Requirements to File Notice of Construction of Meteorological Evaluation Towers and Other Renewable Energy Projects (Section 610 Review) | 2120-AK77

Federal Aviation Administration—Final Rule Stage
Sequence No. | Title | Regulation Identifier No.
399 | Registration and Marking Requirements for Small Unmanned Aircraft | 2120-AK82

Federal Aviation Administration—Long-Term Actions
Sequence No. | Title | Regulation Identifier No.
400 | Regulation Of Flight Operations Conducted By Alaska Guide Pilots | 2120-AJ78
401 | Applying the Flight, Duty, and Rest Requirements to Ferry Flights That Follow Commuter or On-Demand Operations (FAA Reauthorization) | 2120-AK26
402 | Aircraft Registration and Airmen Certification Fees | 2120-AK37
403 | Helicopter Air Ambulance Pilot Training and Operational Requirements (HAA II) (FAA Reauthorization) | 2120-AK57

Federal Motor Carrier Safety Administration—Proposed Rule Stage
Sequence No. | Title | Regulation Identifier No.
404 | Self-Insurance Program Cost Recovery (Section 610 Review) | 2126-AC58

Federal Motor Carrier Safety Administration—Long-Term Actions
Sequence No. | Title | Regulation Identifier No.
405 | Safety Monitoring System and Compliance Initiative for Mexico-Domiciled Motor Carriers Operating in the United States | 2126-AA35

Federal Railroad Administration—Proposed Rule Stage
Sequence No. | Title | Regulation Identifier No.
406 | Positive Train Control Systems (Section 610 Review) | 2130-AC95

Federal Railroad Administration—Final Rule Stage
Sequence No. | Title | Regulation Identifier No.
407 | Train Crew Staffing | 2130-AC88

Saint Lawrence Seaway Development Corporation—Prerule Stage
Sequence No. | Title | Regulation Identifier No.
408 | Seaway Regulations and Rules: Periodic Update, Various Categories (Completion of a Section 610 Review) | 2135-AA55
409 | Tariff of Tolls (Completion of a Section 610 Review) | 2135-AA56

Pipeline and Hazardous Materials Safety Administration—Proposed Rule Stage
Sequence No. | Title | Regulation Identifier No.
410 | Pipeline Safety: Gas Pipeline Leak Detection and Repair | 2137-AF51
411 | Pipeline Safety: Pipeline Operational Status | 2137-AF52
412 | Pipeline Safety: Safety of Gas Distribution Pipelines and Other Pipeline Safety Initiatives | 2137-AF53

Maritime Administration—Proposed Rule Stage
Sequence No. | Title | Regulation Identifier No.
413 | Cargo Preference—U.S. Flag Vessels Regulatory Update (Section 610 Review) | 2133-AB97

Maritime Administration—Final Rule Stage
Sequence No. | Title | Regulation Identifier No.
414 | Amendment to the Federal Ship Financing Program Regulations; Financial Requirements (Section 610 Review) | 2133-AB98
415 | Establishing Safe and Secure Merchant Marine Training (Section 610 Review) | 2133-AB99

DEPARTMENT OF TRANSPORTATION (DOT)

Office of the Secretary (OST)

Final Rule Stage

396. Refunding Airline Tickets Ancillary Service Fees [2105-AF04]

Legal Authority: 49 U.S.C. 41712; 49 U.S.C. 40101, 49 U.S.C. 41702

Abstract: The Department of Transportation has consistently interpreted 49 U.S.C. 41712, which prohibits U.S. air carriers, foreign air carriers, and ticket agents from engaging in unfair practices in the sale of air transportation, to require carriers and ticket agents to provide requested refunds to passengers when a carrier cancels or significantly changes a flight to, from, or within the United States. This rulemaking would clarify that, under the Department's rule requiring airlines to provide prompt refunds when ticket refunds are due and its rule requiring ticket agents to make refunds promptly when service cannot be performed as contracted, carriers and ticket agents must provide prompt ticket refunds to passengers when a carrier cancels or makes a significant change to a flight. This rulemaking would define cancellation and significant change, including addressing whether new itineraries involving delays of a certain length or additional stops constitute a significant change requiring a refund. This rulemaking would also address protections for consumers who are unable to travel due to government restrictions. In addition, the rulemaking under RIN 2105-AE53 has been merged into this rulemaking. As such, this rulemaking would also require airlines to refund checked baggage fees when they fail to deliver the bags in a timely manner as provided by the FAA Extension, Safety and Security Act of 2016, and require airlines to promptly provide a refund to a passenger of any ancillary fees paid for services that the passenger did not receive as provided by the FAA Reauthorization Act of 2018. This rulemaking is informed by feedback received at four public meetings: three meetings of the Aviation Consumer Protection Advisory Committee on August 22, 2022, December 8, 2022, and January 12, 2023, and one public hearing on March 21, 2023. The docket for this rule was also open to public comment submission for approximately 130 days.

Timetable:

Action | Date | FR Cite
NPRM | 08/22/22 | 87 FR 51550
NPRM Comment Period End | 03/28/23
Final Rule | 02/00/24

Regulatory Flexibility Analysis Required: Yes.

Agency Contact: Blane A. Workie, Assistant General Counsel, Department of Transportation, Office of the Secretary, 1200 New Jersey Avenue SE, Washington, DC 20590, Phone: 202 366-9342, Fax: 202 366-7153, Email: blane.workie@dot.gov.

RIN: 2105-AF04

DEPARTMENT OF TRANSPORTATION (DOT)

Federal Aviation Administration (FAA)

Proposed Rule Stage

397. Drug and Alcohol Testing of Certain Maintenance Provider Employees Located Outside of the United States [2120-AK09]

Legal Authority: 14 CFR; 49 U.S.C. 106(g); 49 U.S.C. 40113; 49 U.S.C. 44701; 49 U.S.C. 44702; 49 U.S.C. 44707; 49 U.S.C. 44709; 49 U.S.C. 44717

Abstract: This rulemaking would require controlled substance testing of some employees working in repair stations located outside the United States. The intended effect is to increase participation by companies outside of the United States in testing of employees who perform safety critical functions and testing standards similar to those used in the repair stations located in the United States. This rulemaking is a statutory mandate under section 308(d) of the FAA Modernization and Reform Act of 2012 (Pub. L. 112-95).

Timetable:

Action | Date | FR Cite
ANPRM | 03/17/14 | 79 FR 14621
Comment Period Extended | 05/01/14 | 79 FR 24631
ANPRM Comment Period End | 05/16/14
Comment Period End | 07/17/14
NPRM | 12/00/23

Regulatory Flexibility Analysis Required: Yes.

Agency Contact: Julia Brady, Program Analyst, Program Policy Branch, Department of Transportation, Federal Aviation Administration, 800 Independence Avenue SW, Washington, DC 20591, Phone: 202 267-8083, Email: julia.brady@faa.gov.

RIN: 2120-AK09

398. Requirements To File Notice of Construction of Meteorological Evaluation Towers and Other Renewable Energy Projects (Section 610 Review) [2120-AK77]

Legal Authority: 49 U.S.C. 40103

Abstract: This rulemaking would add specific requirements for proponents who wish to construct meteorological evaluation towers at a height of 50 feet above ground level (AGL) up to 200 feet AGL to file notice of construction with the FAA. This rule also requires sponsors of wind turbines to provide certain specific data when filing notice of construction with the FAA. This rulemaking is a statutory mandate under section 2110 of the FAA Extension, Safety, and Security Act of 2016 (Pub. L. 114-190).

Timetable:

Action | Date | FR Cite
NPRM | 01/00/24

Regulatory Flexibility Analysis Required: No.

Agency Contact: Juan Yanguas, Department of Transportation, Federal Aviation Administration, 800 Independence Avenue SW, Washington, DC 20591, Phone: 202 267-1082, Email: juan.s.yanguas@faa.gov.

RIN: 2120-AK77

DEPARTMENT OF TRANSPORTATION (DOT)

Federal Aviation Administration (FAA)

Final Rule Stage

399. Registration and Marking Requirements for Small Unmanned Aircraft [2120-AK82]

Legal Authority: 49 U.S.C. 106(f), 49 U.S.C. 41703, 44101 to 44106, 44110 to 44113, and 44701

Abstract: This rulemaking would provide an alternative, streamlined and simple, web-based aircraft registration process for the registration of small, unmanned aircraft, including small unmanned aircraft operated exclusively for limited recreational operations, to facilitate compliance with the statutory requirement that all aircraft register prior to operation. It would also provide a simpler method for marking small, unmanned aircraft that is more appropriate for these aircraft. This action responds to public comments received regarding the proposed registration process in the Operation and Certification of Small Unmanned Aircraft notice of proposed rulemaking, the request for information regarding unmanned aircraft system registration, and the recommendations from the Unmanned Aircraft System Registration Task Force.

Timetable:

Action | Date | FR Cite
Interim Final Rule | 12/16/15 | 80 FR 78593
Interim Final Rule Effective | 12/21/15
OMB Approval of Information Collection | 12/21/15 | 80 FR 79255
Interim Final Rule Comment Period End | 01/15/16
Final Rule | 02/00/24

Regulatory Flexibility Analysis Required: Yes.

Agency Contact: Bonnie Lefko, Department of Transportation, Federal Aviation Administration, 6500 S MacArthur Boulevard, Registry Building 26, Room 118, Oklahoma City, OK 73169, Phone: 866 762-9434, Email: bonnie.lefko@faa.gov.

RIN: 2120-AK82

DEPARTMENT OF TRANSPORTATION (DOT)

Federal Aviation Administration (FAA)

Long-Term Actions

400. Regulation of Flight Operations Conducted by Alaska Guide Pilots [2120-AJ78]

Legal Authority: 49 U.S.C. 106(g) ; 49 U.S.C. 1153; 49 U.S.C. 1155; 49 U.S.C. 40101 to 40103; 49 U.S.C. 40113; 49 U.S.C. 40120; 49 U.S.C. 44101; 49 U.S.C. 44105 to 44016; 49 U.S.C. 44111; 49 U.S.C. 44701 to 44717; 49 U.S.C. 44722; 49 U.S.C. 44901; 49 U.S.C. 44903 to 44904; 49 U.S.C. 44906; 49 U.S.C. 44912; 49 U.S.C. 44914; 49 U.S.C. 44936; 49 U.S.C. 44938; 49 U.S.C. 46103; 49 U.S.C. 46105; 49 U.S.C. 46306; 49 U.S.C. 46315 to 46316; 49 U.S.C. 46504; 49 U.S.C. 46506 to 46507; 49 U.S.C. 47122; 49 U.S.C. 47508; 49 U.S.C. 47528 to 47531; Articles 12 and 29 of 61 Statue 1180; P.L. 106-181, Sec. 732

Abstract: The rulemaking would establish regulations concerning Alaska guide pilot operations. The rulemaking would implement Congressional legislation and establish additional safety requirements for the conduct of these operations. The intended effect of this rulemaking is to enhance the level of safety for persons and property transported in Alaska guide pilot operations. In addition, the rulemaking would add a general provision applicable to pilots operating under the general operating and flight rules concerning falsification, reproduction, and alteration of applications, logbooks, reports, or records. This rulemaking is a statutory mandate under section 732 of the Wendell H. Ford Aviation Investment and Reform Act for the 21st Century, (Pub. L. 106-181).

Timetable: Next Action Undetermined.

Regulatory Flexibility Analysis Required: Yes.

Agency Contact: Jeff Smith, Department of Transportation, Federal Aviation Administration, 800 Independence Avenue SW, Washington, DC 20785, Phone: 202 365-3617, Email: jeffrey.smith@faa.gov.

RIN: 2120-AJ78

401. Applying the Flight, Duty, and Rest Requirements to Ferry Flights That Follow Commuter or On-Demand Operations (FAA Reauthorization) [2120-AK26]

Legal Authority: 49 U.S.C. 106(f); 49 U.S.C. 106(g); 49 U.S.C. 1153; 49 U.S.C. 40101; 49 U.S.C. 40102; 49 U.S.C. 40103; 49 U.S.C. 40113; 49 U.S.C. 41706; 49 U.S.C. 44105; 49 U.S.C. 44106; 49 U.S.C. 44111; 49 U.S.C. 44701 to 44717; 49 U.S.C. 44722; 49 U.S.C. 44901; 49 U.S.C. 44903; 49 U.S.C. 44904; 49 U.S.C. 44906; 49 U.S.C. 44912; 49 U.S.C. 44914; 49 U.S.C. 44936; 49 U.S.C. 44938; 49 U.S.C. 45101 to 45105; 49 U.S.C. 46103

Abstract: This rulemaking would require a flightcrew member who is employed by an air carrier conducting operations under part 135, and who accepts an additional assignment for flying under part 91 from the air carrier or from any other air carrier conducting operations under part 121 or 135, to apply the period of the additional assignment toward any limitation applicable to the flightcrew member relating to duty periods or flight times under part 135.

Timetable: Next Action Undetermined.

Regulatory Flexibility Analysis Required: Yes.

Agency Contact: Chester Piolunek, Department of Transportation, Federal Aviation Administration, 800 Independence Avenue SW, Washington, DC 20591, Phone: 202 267-3711, Email: chester.piolunek@faa.gov.

RIN: 2120-AK26

402. Aircraft Registration and Airmen Certification Fees [2120-AK37]

Legal Deadline: 31 U.S.C. 9701; 4 U.S.C. 1830; 49 U.S.C. 106(f); 49 U.S.C. 106(g); 49 U.S.C. 106(l)(6); 49 U.S.C. 40104; 49 U.S.C. 40105; 49 U.S.C. 40109; 49 U.S.C. 40113; 49 U.S.C. 40114; 49 U.S.C. 44101 to 44108; 49 U.S.C. 44110 to 44113; 49 U.S.C. 44701 to 44704; 49 U.S.C. 44707; 49 U.S.C. 44709 to 44711; 49 U.S.C. 44713; 49 U.S.C. 45102; 49 U.S.C. 45103; 49 U.S.C. 45301; 49 U.S.C. 45302; 49 U.S.C. 45305; 49 U.S.C. 46104; 49 U.S.C. 46301; Pub. L. 108-297, 118 Stat.

Abstract: This rulemaking would establish fees for airman certificates, medical certificates, and provision of legal opinions pertaining to aircraft registration or recordation. This rulemaking also would revise existing fees for aircraft registration, recording of security interests in aircraft or aircraft parts, and replacement of an airman certificate. This rulemaking addresses provisions of the FAA Modernization and Reform Act of 2012. This rulemaking is intended to recover the estimated costs of the various services and activities for which fees would be established or revised.

Timetable:

Action | Date | FR Cite
Next Action Undetermined | To Be Determined

Regulatory Flexibility Analysis Required: Yes.

Agency Contact: Isra Raza, Department of Transportation, Federal Aviation Administration, 800 Independence Avenue SW, Washington, DC 20591, Phone: 202 267-8994, Email: isra.raza@faa.gov.

RIN: 2120-AK37

403. Helicopter Air Ambulance Pilot Training and Operational Requirements (HAA II) (FAA Reauthorization) [2120-AK57]

Legal Authority: 49 U.S.C. 106(f); 49 U.S.C. 106(g); 49 U.S.C. 40113; 49 U.S.C. 41706; 49 U.S.C. 44701; 49 U.S.C. 44702; 49 U.S.C. 44705; 49 U.S.C. 44709; 49 U.S.C. 44711 to 44713; 49 U.S.C. 44715 to 44717; 49 U.S.C. 44722; 49 U.S.C. 44730; 49 U.S.C. 45101 to 45105

Abstract: This rulemaking would develop training requirements for crew resource management, flight risk evaluation, and operational control of the pilot in command, as well as to develop standards for the use of flight simulation training devices and line-oriented flight training. Additionally, it would establish requirements for the use of safety equipment for flight crewmembers and flight nurses. These changes will aide in the increase in aviation safety and increase survivability in the event of an accident. Without these changes, the Helicopter Air Ambulance industry may continue to see the unacceptable high rate of aircraft accidents. This rulemaking is a statutory mandate under section 306(e) of the FAA Modernization and Reform Act of 2012 (Pub. L. 112-95).

Timetable: Next Action Undetermined.

Regulatory Flexibility Analysis Required: Yes.

Agency Contact: Chris Holliday, Department of Transportation, Federal Aviation Administration, 800 Independence Avenue SW, Washington, DC 20591, Phone: 202 267-4552, Email: chris.holliday@faa.gov.

RIN: 2120-AK57

BILLING CODE 4910-13-P

DEPARTMENT OF TRANSPORTATION (DOT)

Federal Motor Carrier Safety Administration (FMCSA)

Proposed Rule Stage

404. Self-Insurance Program Cost Recovery (Section 610 Review) [2126-AC58]

Legal Authority: 31 U.S.C. 9701 and 49 U.S.C. 13906(d); 49 U.S.C. 13908(d)

Abstract: FMCSA will propose to amend fees collected for the processing of new self-insurance applications and add new fees for ongoing monitoring of carrier compliance with the self-insurance program requirements. Application fees will be directed to FMCSA's Licensing and Insurance (L&I) Account while monitoring fees must be sent to the Treasury. This rulemaking will amend 49 CFR 360.3T/360.3 to ensure that the limited number of primarily large motor carriers that benefit from the program bear a proportionate cost of participating in the program. FMCSA may also need to amend 49 CFR 360.5T/360.5 to reflect any specific updates to the user fee methodology that are required by this rulemaking.

Timetable:

Action | Date | FR Cite
NPRM | 10/00/24

Regulatory Flexibility Analysis Required: No.

Agency Contact: Kenneth Riddle, Office Director, Department of Transportation, Federal Motor Carrier Safety Administration, 1200 New Jersey Avenue SE, W65-308, Washington, DC 20590, Phone: 202 366-9616, Email: kenneth.riddle@dot.gov.

RIN: 2126-AC58

DEPARTMENT OF TRANSPORTATION (DOT)

Federal Motor Carrier Safety Administration (FMCSA)

Long-Term Actions

405. Safety Monitoring System and Compliance Initiative for Mexico-Domiciled Motor Carriers Operating in the United States [2126-AA35]

Legal Authority: Pub. L. 107-87, sec. 350; 49 U.S.C. 113; 49 U.S.C. 31136; 49 U.S.C. 31144; 49 U.S.C. 31502; 49 U.S.C. 504; 49 U.S.C. 5113; 49 U.S.C. 521(b)(5)(A)

Abstract: This rule would implement a safety monitoring system and compliance initiative designed to evaluate the continuing safety fitness of all Mexico-domiciled carriers within 18 months after receiving a provisional Certificate of Registration or provisional authority to operate in the United States. It also would establish suspension and revocation procedures for provisional Certificates of Registration and operating authority, and incorporate criteria to be used by FMCSA in evaluating whether Mexico-domiciled carriers exercise basic safety management controls. The interim rule included requirements that were not proposed in the NPRM but which are necessary to comply with the FY-2002 DOT Appropriations Act. On January 16, 2003, the Ninth Circuit Court of Appeals remanded this rule, along with two other NAFTA-related rules, to the agency, requiring a full environmental impact statement and an analysis required by the Clean Air Act. On June 7, 2004, the Supreme Court reversed the Ninth Circuit and remanded the case, holding that FMCSA is not required to prepare the environmental documents. FMCSA originally planned to publish a final rule by November 28, 2003.

Timetable:

Action | Date | FR Cite
NPRM | 05/03/01 | 66 FR 22415
NPRM Comment Period End | 07/02/01
Interim Final Rule | 03/19/02 | 67 FR 12758
Interim Final Rule Comment Period End | 04/18/02
Interim Final Rule Effective | 05/03/02
Notice of Intent to Prepare an EIS | 08/26/03 | 68 FR 51322
EIS Public Scoping Meetings | 10/08/03 | 68 FR 58162
Next Action Undetermined

Regulatory Flexibility Analysis Required: Yes.

Agency Contact: Crystal E. Williams, Department of Transportation, Federal Motor Carrier Safety Administration, 1200 New Jersey Avenue SE, Washington, DC 20590, Phone: 202 366-0596, Email: crystal.williams@dot.gov.

RIN: 2126-AA35

BILLING CODE 4910-EX-P

DEPARTMENT OF TRANSPORTATION (DOT)

Federal Railroad Administration (FRA)

Proposed Rule Stage

406. • Positive Train Control Systems (Section 610 Review) [2130-AC95]

Legal Authority: 49 U.S.C. 20157; 49 U.S.C. 20103

Abstract: This rulemaking will amend FRA's PTC regulations—Title 49 Code of Federal Regulations (CFR) part 236, subpart I—to accomplish two objectives: (1) Improve FRA's oversight of the performance of PTC technology by clarifying and expanding certain reporting requirements, and (2) provide a clear framework under which railroads may safely operate without PTC technology, subject to operating restrictions and other requirements, in certain necessary situations.

FRA has found that its existing PTC regulations do not provide sufficient flexibility to railroads to continue operating following initialization failures or in cases where a PTC system needs to be temporarily disabled during repair, maintenance, infrastructure upgrades, or capital projects. Previously, FRA's regulations provided railroads with flexibility that expired on December 31, 2022, and this rulemaking will reintroduce a certain flexibility regarding initialization failures, establish additional parameters and operating restrictions under which railroads may continue to operate safely, and codify an existing process for FRA's approval of temporary PTC system outages related to repair, maintenance, infrastructure upgrades, and capital projects.

In addition, this rulemaking will create a new exception to permit non-revenue passenger trains to operate to yards or maintenance facilities, without being governed by PTC technology, under certain conditions.

Timetable:

Action | Date | FR Cite
NPRM | 01/00/24

Regulatory Flexibility Analysis Required: Undetermined.

Agency Contact: Amanda Maizel, Attorney-Adviser, Department of Transportation, Federal Railroad Administration, 1200 New Jersey Avenue SE, Washington, DC 20590, Phone: 202 493-8014, Email: amanda.maizel@dot.gov.

RIN: 2130-AC95

DEPARTMENT OF TRANSPORTATION (DOT)

Federal Railroad Administration (FRA)

Final Rule Stage

407. Train Crew Staffing [2130-AC88]

Legal Authority: 49 CFR 1.89(a); 49 U.S.C. 20103

Abstract: This rulemaking would address the potential safety impact of one-person train operations, including appropriate measures to mitigate an accident's impact and severity, and the patchwork of State laws concerning minimum crew staffing requirements. This rulemaking would address the issue of minimum requirements for the size of train crews, depending on the type of operations. In an effort to encourage public participation, FRA extended the comment period from 60 to 146 days and held a public hearing on December 14, 2022.

Timetable:

Action | Date | FR Cite
NPRM | 07/28/22 | 87 FR 45564
NPRM Comment Period End | 12/21/22
Final Rule | 03/00/24

Regulatory Flexibility Analysis Required: Yes.

Agency Contact: Amanda Maizel, Attorney-Adviser, Department of Transportation, Federal Railroad Administration, 1200 New Jersey Avenue SE, Washington, DC 20590, Phone: 202 493-8014, Email: amanda.maizel@dot.gov.

RIN: 2130-AC88

BILLING CODE 4910-06-P

DEPARTMENT OF TRANSPORTATION (DOT)

Saint Lawrence Seaway Development Corporation (SLSDC)

Prerule Stage

408. • Seaway Regulations and Rules: Periodic Update, Various Categories (Completion of a Section 610 Review) [2135-AA55]

Legal Authority: 33 U.S.C. 981 et seq.

Abstract: The Great Lakes St. Lawrence Seaway Development Corporation (GLS) and the St. Lawrence Seaway Management Corporation (SLSMC) of Canada, under international agreement, jointly publish and presently administer the St. Lawrence Seaway Regulations and Rules (Practices and Procedures in Canada) in their respective jurisdictions. Under agreement with the SLSMC, the GLS is amending the joint regulations by updating the Regulations and Rules in various categories.

Timetable:

Action | Date | FR Cite
ANPRM | 02/00/24

Regulatory Flexibility Analysis Required: No.

Agency Contact: Carrie Lynn Lavigne, Chief Counsel, Department of Transportation, Saint Lawrence Seaway Development Corporation, Great Lakes Street, Lawrence Seaway Development Corporation (GLS), 1200 New Jersey Avenue SW, Washington, DC 20590, Phone: 315 764-3231, Email: carrie.lavigne@dot.gov.

RIN: 2135-AA55

409. • Tariff of Tolls (Completion of a Section 610 Review) [2135-AA56]

Legal Authority: 33 U.S.C. 918 et seq.

Abstract: The Great Lakes St. Lawrence Seaway Development Corporation (GLS) and the St. Lawrence Seaway Management Corporation (SLSMC) of Canada, under international agreement, jointly publish and presently administer the St. Lawrence Seaway Tariff of Tolls in their respective jurisdictions. The Tariff sets forth the level of tolls assessed on all commodities and vessels transiting the facilities operated by the GLS and the SLSMC.

Timetable:

Action | Date | FR Cite
ANPRM | 02/00/24

Regulatory Flexibility Analysis Required: No.

Agency Contact: Carrie Lynn Lavigne, Chief Counsel, Department of Transportation, Saint Lawrence Seaway Development Corporation, Great Lakes Street, Lawrence Seaway Development Corporation (GLS), 1200 New Jersey Avenue SW, Washington, DC 20590, Phone: 315 764-3231, Email: carrie.lavigne@dot.gov.

RIN: 2135-AA56

BILLING CODE 4910-61-P

DEPARTMENT OF TRANSPORTATION (DOT)

Pipeline and Hazardous Materials Safety Administration (PHMSA)

Proposed Rule Stage

410. Pipeline Safety: Gas Pipeline Leak Detection and Repair [2137-AF51]

Legal Authority: 49 U.S.C. 60101 et seq.

Abstract: This rulemaking would amend the pipeline safety regulations to enhance requirements for detecting and repairing leaks on new and existing natural gas distribution, gas transmission, and gas gathering pipelines. The proposed rule is necessary to respond to a mandate from section 113 of the Protecting our Infrastructure of Pipelines and Enhancing Safety Act of 2020. PHMSA hosted a public meeting covering gas pipeline leak detection and repair on May 5 and May 6, 2021, and has scheduled a Gas Pipeline Advisory Committee meeting to discuss the NPRM for November 27 through December 1, 2023.

Timetable:

Action | Date | FR Cite
NPRM | 05/18/23 | 88 FR 31890
NPRM Comment Period End | 08/16/23
Analyzing Comments | 11/00/23

Regulatory Flexibility Analysis Required: Yes.

Agency Contact: Sayler Palabrica, Department of Transportation, Pipeline and Hazardous Materials Safety Administration, 1200 New Jersey Avenue SE, Washington, DC 20590, Phone: 202 366-0559, Email: sayler.palabrica@dot.gov.

RIN: 2137-AF51

411. Pipeline Safety: Pipeline Operational Status [2137-AF52]

Legal Authority: 49 U.S.C. 60101 et seq.

Abstract: This rulemaking would amend the pipeline safety regulations to define an idled operational status for natural gas and hazardous liquid pipelines that are temporarily removed from service, set operations and maintenance requirements for idled pipelines, and establish inspection requirements for idled pipelines that are returned to service. The proposed rule is necessary to respond to a mandate from the Protecting our Infrastructure of Pipelines and Enhancing Safety Act of 2020.

Timetable:

Action | Date | FR Cite
NPRM | 02/00/24

Regulatory Flexibility Analysis Required: Yes.

Agency Contact: Anna Setzer, Transportation Specialist, Department of Transportation, Pipeline and Hazardous Materials Safety Administration, 1200 New Jersey Avenue SE, Washington, DC 20590, Phone: 202 366-4098, Email: anna.setzer@dot.gov.

RIN: 2137-AF52

412. Pipeline Safety: Safety of Gas Distribution Pipelines and Other Pipeline Safety Initiatives [2137-AF53]

Legal Authority: 49 U.S.C. 60101 et seq.

Abstract: This rulemaking would amend the pipeline safety regulations to enhance the safety requirements for gas distribution pipelines. The proposed rule is necessary to respond to several mandates from title II of the Protecting our Infrastructure of Pipelines and Enhancing Safety Act of 2020 (PIPES Act of 2020).

Timetable:

Action | Date | FR Cite
NPRM | 09/07/23 | 88 FR 61746
NPRM Comment Period End | 11/06/23

Regulatory Flexibility Analysis Required: Yes.

Agency Contact: Ashlin Bollacker, Transportation Specialist, Department of Transportation, Pipeline and Hazardous Materials Safety Administration, 1200 New Jersey Avenue SE, Washington, DC 20590, Phone: 202 366-4203, Email: ashlin.bollacker@dot.gov.

RIN: 2137-AF53

BILLING CODE 4910-60-P

DEPARTMENT OF TRANSPORTATION (DOT)

Maritime Administration (MARAD)

Proposed Rule Stage

413. Cargo Preference—U.S. Flag Vessels Regulatory Update (Section 610 Review) [2133-AB97]

Legal Authority: FY23 NDAA, Pub. L. 117-263; 46 U.S.C. 55305; 49 CFR 1.93(a)

Abstract: The purpose of this rulemaking is to respond to a statutory directive in section 3502 of the National Defense Authorization Act for Fiscal Year 2023 (FY23 NDAA) requiring MARAD to issue a final rule to implement and enforce the cargo preference requirements in 46 U.S.C. 55305(d).

Timetable:

Action | Date | FR Cite
NPRM | 06/00/24

Regulatory Flexibility Analysis Required: Undetermined.

Agency Contact: Thomas Mitchell Hudson, Department of Transportation, Maritime Administration, 1200 New Jersey Avenue SE, Washington, DC 20590, Phone: 202 366-9373, Email: mitch.hudson@dot.gov.

RIN: 2133-AB97

DEPARTMENT OF TRANSPORTATION (DOT)

Maritime Administration (MARAD)

Final Rule Stage

414. Amendment to the Federal Ship Financing Program Regulations; Financial Requirements (Section 610 Review) [2133-AB98]

Legal Authority: National Defense Authorization Act for Fiscal Year 2020, Pub. L. 116-92; 46 U.S.C. ch. 537; 49 CFR 1.93(a)

Abstract: The proposed rule is intended to update the lending parameters in the current regulations, which no longer best achieve the intended purpose of minimizing the risk of Title XI Program defaults, and to better align the lending practices to reflect Federal credit and maritime lending best practices. MARAD expects that the proposed regulations will reduce the economic burden on applicants in complying with Title XI Program requirements that are inconsistent with other lending instruments. MARAD also expects that the updated lending parameters could encourage the construction of vessels in United States shipyards which otherwise would not meet the current constrained Title XI Program financial requirements.

Timetable:

Action | Date | FR Cite
NPRM | 04/25/23 | 88 FR 24962
NPRM Comment Period End | 06/26/23
Final Rule | 12/00/23

Regulatory Flexibility Analysis Required: No.

Agency Contact: Mitch Hudson, Attorney, Department of Transportation, Maritime Administration, 1200 New Jersey Avenue SE, Washington, DC 20590, Phone: 202 366-9373, Email: mitch.hudson@dot.gov.

RIN: 2133-AB98

415. Establishing Safe and Secure Merchant Marine Training (Section 610 Review) [2133-AB99]

Legal Authority: FY23 NDAA, Pub. L. 117-263; 46 U.S.C. ch. 513; 49 CFR 1.93(a)

Abstract: The purpose of this regulation is to improve the safety and efficiency of the United States merchant marine through the prevention of, and response to, sexual harassment, dating violence, domestic violence, and sexual assault onboard vessels on which merchant marine cadets are embarked for training purposes.

Timetable:

Action | Date | FR Cite
Final Action | 01/00/24

Regulatory Flexibility Analysis Required: Undetermined.

Agency Contact: Thomas Mitchell Hudson, Department of Transportation, Maritime Administration, 1200 New Jersey Avenue SE, Washington, DC 20590, Phone: 202 366-9373, Email: mitch.hudson@dot.gov.

RIN: 2133-AB99

[FR Doc. 2024-00449 Filed 2-8-24; 8:45 am]

BILLING CODE 4910-81-P